DEPARTMENT OF COMMERCE

Foreign-Trade Zones Board

[Docket 65-2010]

Foreign-Trade Zone 50—Long Beach, CA; Application for Reorganization/Expansion Under Alternative Site Framework

An application has been submitted to the Foreign-Trade Zones (FTZ) Board (the Board) by the Port of Long Beach, grantee of FTZ 50, requesting authority to reorganize and expand the zone under the alternative site framework (ASF) adopted by the Board (74 FR 1170, 1/12/09; correction 74 FR 3987, 1/22/09). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on November 8, 2010.

FTZ 50 was approved by the Board on September 14, 1979 (Board Order 147, 44 FR 55919, 09/28/1979) and expanded on April 2, 1985 (Board Order 298, 50 FR 15205, 04/17/1985), on March 25, 1987 (Board Order 341, 52 FR 10393, 04/01/1987), on December 19, 1990 (Board Order 494, 55 FR 53581, 12/31/1990), on July 16, 1996 (Board Order 833, 61 FR 42832, 08/19/1996), on January 16, 2001 (Board Order 1141, 66 FR 8378, 01/31/2001) and on March 11, 2004 (Board Order 1319, 69 FR 13283, 03/22/2004).

The current zone project includes the following sites: Site 1 (8 acres)—909 East Colon Street, Wilmington; Site 2 (1,844 acres)—California Commerce Center, Ontario; Site 3 (68 acres)—within the Inter-City Commuter Station Redevelopment area at 1000 E. Santa Ana Boulevard, Santa Ana; Site 4 (175 acres, 6 parcels)—within the San Bernardino International Airport and Trade Center Complex in San Bernardino, located at 225 N. Leland Norton Way (1 acre), 255 S. Leland Norton Way (2 acres), Perimeter Road (33 acres), Mill Street (19 acres), Central Avenue (32 acres), and 300 South Tippecanoe Avenue at East Mill Street (88 acres); Site 5 (5 acres)—10501-10509 E. Valley Blvd. at Pacific Place, El Monte; Site 6 (50 acres)—1875 West Mission Boulevard, Pomona; Site 7 (1 acre)—301 San Marino Avenue, between Broadway and Clary Avenues, San Gabriel; Site 8 (4 acres)—22941 South Wilmington Avenue, Carson; Site 9 (30 acres)—2560 East Philadelphia Street, Ontario; Site 10 (48 acres)—within Ontario Ridge Commerce Center at 3655 East Philadelphia Street, 2055 South Haven Street and 3625 East Philadelphia Street, Ontario; Site 11 (33 acres)—4100 E. Mission Boulevard, Ontario; Site 12 (32 acres)—1661 and 1777 S. Vintage Ave. and 1670 Champagne Ave., Ontario; Site 13 (7 acres)—2530 S. Birch Street, Santa Ana; Site 14 (7 acres)—3000 and 31000 Segerstrom Avenue, Santa Ana; Site 15 (9 acres)—2900 and 2930 South Fairviw Street, Santa Ana; Site 16 (1 acre)—3630 West Garry Avenue, Santa Ana; Site 17 (6 acres)—1101 W. McKinley Avenue (buildings 4, 5, 7, 8, & 22), Pomona; and, Site 18 (2 acres)—Santa Ana and Junipero Serra Streets, San Gabriel.

The grantee's proposed service area under the ASF would include all of Orange County and portions of Los Angeles County and San Bernardino County, California, as described in the application. If approved, the grantee would be able to serve sites throughout the service area based on companies' needs for FTZ designation. The proposed service area is within and adjacent to the Los Angeles/Long Beach Customs and Border Protection port of entry.

The applicant is requesting authority to reorganize its existing zone project to include fourteen of the existing sites as “magnet” sites (sites 1-8, 10, 14-18) and four of the existing sites as “usage-driven” sites (sites 9, 11-13). The ASF allows for the possible exemption of one magnet site from the “sunset” time limits that generally apply to sites under the ASF, and the applicant proposes that Site 2 be so exempted. The applicant is also requesting to expand the zone to include the following initial “usage-driven” sites: Proposed Site 19 (22.09 acres)—VF Outdoor, Inc., 15614-15620 and 15700 Shoemaker Avenue, Santa Fe Springs (Los Angeles County); Proposed Site 20 (22.32 acres)—Liberty Hardware, 5555 Jurupa Street, Ontario (San Bernardino County); Proposed Site 21 (45.91 acres)—Tireco, Inc., 10545 Production Avenue, Fontana (San Bernardino County); Proposed Site 22 (17.8 acres)—Schlosser Forge Company, 11711 Arrow Route, Rancho Cucamonga (San Bernardino County); and Proposed Site 23 (15.7 acres)—Forged Metals Inc., 10685 Beech Avenue, Fontana (San Bernardino County). Because the ASF only pertains to establishing or reorganizing a general-purpose zone, the application would have no impact on FTZ 50's authorized subzones.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is January 14, 2011. Rebuttal comments in response to material submitted during the foregoing period may be submitted during the subsequent 15-day period to January 29, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz. For further information, contact Christopher Kemp at Christopher.Kemp@trade.gov or (202) 482-0862.

Dated: November 8, 2010.
Andrew McGilvray,
Executive Secretary.

[FR Doc. 2010-28675 Filed 11-12-10; 8:45 am]

BILLING CODE P